DEPARTMENT OF COMMERCE

Foreign-Trade Zones Board

[B-96-2013]

Foreign-Trade Zone 235—Lakewood, New Jersey Application for Reorganization/Expansion Under Alternative Site Framework

An application has been submitted to the Foreign-Trade Zones (FTZ) Board by the Township of Lakewood, New Jersey, grantee of FTZ 235, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on November 7, 2013.

FTZ 235 was approved by the FTZ Board on November 25, 1998 (Board Order 1008, 63 FR 67854, 12/09/98) and expanded on November 20, 2008 (Board Order 1589, 73 FR 74140-74141, 12/05/08). The current zone includes the following sites: Site 1 (1996 acres total, 3 parcels)—Parcel A (1,540 acres)—Lakewood Airport, State Highway Route 70, Lakewood; Parcel B (47 acres)—Pine Street South Industrial District located on Pine Street, Lakewood; and Parcel C (409 acres)—Lakewood Industrial Campus West, Cedar Bridge Avenue, Lakewood; Site 2 (252 acres)—Prospect Street Industrial Park, Prospect and James Streets, Lakewood; Site 3 (351 acres, 2 parcels, sunset 11/30/13)—Parcel 1 (209 acres)—Cranbury Business Park, located at 61 & 66 Station Road; and, Parcel 2 (142 acres)—Half Acre Road and Santa Fe Way, Cranbury; Site 4 (50 acres, sunset 11/30/13)—ProLogis Park—South Brunswick, 380 Deans Rhode Hall Road, Jamesburg; Site 5 (159 acres, sunset 11/30/13)—Middlesex Center, 200 Middlesex Drive, Cranbury; Site 6 (35 acres, sunset 11/30/13)—EastPointe Property, South River Road at the New Jersey Turnpike, Cranbury; Site 7 (26 acres, expires 12/31/13)—Barnes & Noble, Inc., 1 Barnes & Noble Way, Monroe; and, Site 8 (11 acres, expires 3/31/14)—Cosmetics Essence Innovations, LLC, 2182 Highway 35, Holmdel.

The grantee's proposed service area under the ASF would be the Counties of Ocean, Middlesex, Monmouth, Union and Burlington, New Jersey, as described in the application. If approved, the grantee would be able to serve sites throughout the service area based on companies' needs for FTZ designation. The proposed service area is within and adjacent to the Philadelphia Customs and Border Protection port of entry.

The applicant is also requesting authority to reorganize and expand its existing zone to remove Sites 3, 4, 5, and 6 and to include Sites 1 and 2 as magnet sites. The ASF allows for the possible exemption of one magnet site from the “sunset” time limits that generally apply to sites under the ASF, and the applicant proposes that Site 1 be so exempted. The applicant is also requesting approval of current temporary Sites 7 and 8 as “usage-driven” sites.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is January 14, 2014. Rebuttal comments in response to material submitted during the foregoing period may be submitted during the subsequent 15-day period to January 29, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Kathleen Boyce at Kathleen.Boyce@trade.gov or (202) 482-1346.

Dated: November 8, 2013.
Andrew McGilvray,
Executive Secretary.

[FR Doc. 2013-27419 Filed 11-14-13; 8:45 am]

BILLING CODE 3510-DS-P